ENVIRONMENTAL PROTECTION AGENCY

[EPA-HQ-OW-2004-0019; FRL-OW-2015-9935-94-OW]

Reopening of Request for Scientific Views on the Draft Aquatic Life Ambient Water Quality Criterion for Selenium—Freshwater 2015

AGENCY: Environmental Protection Agency (EPA).

ACTION: Notice; reopening of comment period.

SUMMARY: The Environmental Protection Agency (EPA) is reopening the comment period for the Agency's draft recommended aquatic life water quality chronic criterion for selenium in freshwater. The draft criterion was announced in a July 27, 2015 notice entitled “Request for Scientific Views: Draft Recommended Aquatic Life Ambient Water Quality Chronic Criterion for Selenium—Freshwater 2015.” In response to stakeholder request, EPA is reopening the comment period and will accept scientific views until October 30, 2015.

DATES: Comments must be received on or before October 30, 2015. Scientific views postmarked after this date may not receive the same consideration. The previous public comment period ended on October 10, 2015.

ADDRESSES: Written comments on the notice may be submitted to the EPA electronically, by mail, by facsimile or through hand delivery/courier. Please refer to the proposal (80 FR 44350-44354) for the addresses and detailed instructions.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the EPA-HQ-OW-2004-0019 Docket, EPA/DC, William Jefferson Clinton Building West, Room 3334, 1301 Constitution Ave. NW., Washington, DC. The Public Reading Room is open from 8:30 a.m. to 4:30 p.m., Monday through Friday, excluding legal holidays. The telephone number for the Public Reading Room is (202) 566-1744, and the telephone number for the EPA Water Docket is (202) 566-2426.

FOR FURTHER INFORMATION CONTACT: Kathryn Gallagher at U.S. EPA, Office of Water, Health and Ecological Criteria Division (4304T), 1200 Pennsylvania Avenue NW., Washington, DC 20460; telephone: (202) 564-1398; or email: gallagher.kathryn@epa.gov.

SUPPLEMENTARY INFORMATION: On July 27, 2015, EPA announced the availability of the draft recommended aquatic life water quality criterion for selenium in a previous notice entitled “Request for Scientific Views: Draft Recommended Aquatic Life Ambient Water Quality Chronic Criterion for Selenium—Freshwater 2015” in the Federal Register (80 FR 44350). EPA's recommended aquatic life water quality criteria provide technical information for states and authorized tribes to consider when adopting water quality standards under the Clean Water Act to protect aquatic life.

EPA is reopening the public comment period for the Draft Aquatic Life Ambient Water Quality Criterion for Selenium—Freshwater 2015 (EPA-822-P-15-001). The original 60-day comment period deadline was September 25, 2015. On September 24, 2015, EPA announced in the Federal Register a 15-day extension to October 10, 2015 (80 FR 57605). This action reopens the comment period, in response to stakeholder request for additional time to consider material that was added to the docket on October 6, 2015. Written scientific views must be received by October 30, 2015.

Following closure of the public comment period, EPA will consider the public comments and revise the document as necessary. EPA will then publish a Federal Register notice announcing the availability of the final updated selenium criterion.

Dated: October 14, 2015.
Robert K. Wood,
Acting Director, Office of Science and Technology.

[FR Doc. 2015-26595 Filed 10-19-15; 8:45 am]

BILLING CODE 6560-50-P